DEPARTMENT OF HEALTH AND HUMAN SERVICES

National Institutes of Health

National Institutes of Child Health and Human Development; Amended Notice of Meeting

Notice is hereby given of a change in the meeting of the National Institutes of Child Health and Human Development Special Emphasis Panel, July 27, 2005, 1 p.m. to July 27, 2005, 1:30 p.m. National Institutes of Health, 6100 Executive Boulevard, 5th Floor Conference Room, Rockville, MD, 20852 which was published in the Federal Registeron July 22, 2005, 70 FR 42354.

The meting will be held August 9, 2005 at 12 p.m. to 12:30 p.m. The meeting is closed to the public.

Dated: August 4, 2005.
Anthony M. Coelho, Jr.,
Acting Director, Office of Federal Advisory Committee Policy.

[FR Doc. 05-15944 Filed 8-10-05; 8:45 am]

BILLING CODE 4140-01-M